FEDERAL COMMUNICATIONS COMMISSION

[OMB 3060-1192, OMB 3060-1323; FR ID 300110]

Information Collections Being Submitted for Review and Approval to Office of Management and Budget

OMB Control Number: 3060-1192.

Title: Survey of Urban Rates, DA 13-598.

Form Number: N/A.

Type of Review: Extension of a currently approved collection.

Respondents: Business or other for-profit.

Number of Respondents and Responses: 2,350 respondents; 2,350 responses.

Estimated Time per Response: 3 hours.

Frequency of Response: Annual reporting requirement.

Obligation to Respond: Mandatory. Statutory authority for this information collection is contained in 47 U.S.C. 254(b).

Total Annual Burden: 7,050 hours.

Total Annual Cost: No cost.

Needs and Uses: In April 2013, the Wireline Competition Bureau of the Federal Communications Commission adopted an Order (Order), in WC Docket No. 10-90; DA 13-598, 78 FR 29063, Connect America Fund. The Order adopted the form and content for a survey of urban rates for fixed voice and fixed broadband residential services for purposes of implementing various reforms adopted as part of the USF/ICC Transformation Order, 76 FR 73830, November 29, 2011. The information collected in this survey will be used to help ensure that universal service support recipients offering fixed voice and broadband services do so at reasonably comparable rates to those in urban areas. The comparability requirements are important components of the Commission's overall effort to improve accountability for the use of universal service funding. The comparability requirements will ensure that rates are reasonably comparable for voice as well as broadband service, between urban and rural, insular, and high cost areas. Rates must be reasonably comparable so that consumers in rural, insular, and high cost areas have meaningful access to these services. This Order requires a statistically valid sample of urban providers to complete a survey with information regarding the types and prices of their offerings. The Commission conducts this survey through an online reporting form accessible to those urban providers of fixed voice and broadband services that are chosen to participate.

OMB Control Number: 3060-1323.

Title: Schools and Libraries Cybersecurity Pilot Program.

Form Numbers: FCC Forms 470, 471, 472, 474—Cybersecurity, 484 and 488—Cybersecurity.

Type of Review: Revision of a currently approved collection.

Respondents: State, local or tribal government institutions, and other not-for-profit institutions.

Number of Respondents and Responses: 3,500 respondents; 17,710 responses.

Estimated Time per Response: 3 hours for FCC Form 470—Cybersecurity, 4 hours for FCC Form 471—Cybersecurity, 1 hour for FCC Forms 472/474—Cybersecurity, 14 hours for FCC Form 484, and 1 hour for FCC Form 488—Cybersecurity, and 4.5 recordkeeping requirements.

Frequency of Response: On occasion and annual reporting requirements, and recordkeeping requirement.

Obligation to Respond: Required to obtain or retain benefits. Statutory authority for this collection of information is contained in sections 1-4, 201-202, 254, 303(r), and 403 of the Communications Act of 1934, as amended, 47 U.S.C. 151-154, 201-202, 254, 303(r), and 403.

Total Annual Burden: 121,690 hours.

Total Annual Cost: No Cost.

Needs and Uses: The information collected is designed to obtain information from applicants and service providers that will be used by the Federal Communications Commission (Commission) and/or the Universal Service Administrative Company to evaluate the applications and select participants to receive funding under the Schools and Libraries Cybersecurity Pilot Program (Cybersecurity Pilot Program), and make funding determinations and disburse funding in compliance with applicable federal laws for payments made through the Cybersecurity Pilot Program. The Commission started accepting applications to participate in the Cybersecurity Pilot Program after publication of its Cybersecurity Pilot Program Report and Order and notice of Office of Management and Budget approval of the Cybersecurity Pilot Program information collection in the Federal Register. This revision adds a third part to the Schools and Libraries Cybersecurity Pilot Program Application, FCC Form 484, which is necessary so that the Commission has sufficient information to evaluate whether the Cybersecurity Pilot Program performance goals and periodic data reporting requirements set forth in the Cybersecurity Pilot Program Report and Order are being met. It is also necessary to help assess the costs and benefits of using the limited universal service funds to support the cybersecurity needs of K-12 schools and libraries. Finally, it is necessary to evaluate the extent to which the Cybersecurity Pilot Program is meeting the statutory objectives specified in section 254(h) of the Communications Act, as amended.

Federal Communications Commission.
Marlene Dortch,
Secretary, Office of the Secretary.

[FR Doc. 2025-11541 Filed 6-23-25; 8:45 am]

BILLING CODE 6712-01-P